NUCLEAR REGULATORY COMMISSION

[Docket No. 50-400]

Carolina Power & Light Company, et al.

Notice of Withdrawal of Application for Amendment to Facility Operating License

The U.S. Nuclear Regulatory Commission (the Commission) has granted the request of Carolina Power & Light Company (the licensee) to withdraw its December 8, 2003, application for proposed amendment to Facility Operating License No. NFP-63 for the Shearon Harris Nuclear Power Plant, Unit 1, located in Wake and Chatham Counties, North Carolina.

The proposed amendment would have revised the Technical Specifications to allow a one-time revision to the steam generator (SG) inservice inspection frequency requirements to allow a 40-month inspection interval after the first inservice inspection following SG replacement rather than after two consecutive inspections resulting in C-1 classification.

The Commission had previously issued a Notice of Consideration of Issuance of Amendment published in the Federal Register on February 17, 2004 (69 FR 7519). However, by letter dated August 6, 2004, the licensee withdrew the proposed change.

For further details with respect to this action, see the application for amendment dated December 8, 2004 and the licensee's letter dated August 6, 2004, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 10th day of August 2004.
For the Nuclear Regulatory Commission.
Chandu P. Patel,
Project Manager, Section 2, Project Directorate II, Division of Licensing Project Management, Office of Nuclear Reactor Regulation.

[FR Doc. 04-18732 Filed 8-16-04; 8:45 am]

BILLING CODE 7590-01-P